SMALL BUSINESS ADMINISTRATION

[License No. 09/09-0467v]

The Central Valley Fund Il SBIC, L.P.; Notice Seeking Exemption Under Section 312 of the Small Business Investment Act, Conflicts of Interest

Notice is hereby given that The Central Valley Fund II SBIC, L.P., 1590 Drew Avenue, Suite 110, Davis, CA 95618, a Federal Licensee under the Small Business Investment Act of 1958, as amended (“the Act”), in connection with the financing of a small concerns, has sought an exemption under Section 312 of the Act and Section 107.730, Financings which Constitute Conflicts of Interest of the Small Business Administration (“SBA”) Rules and Regulations (13 CFR 107.730). The Central Valley Fund Il SBIC, L.P. is proposing to provide financing to Quest Discovery Services, Inc., 981 Ridder Park Drive, San Jose, CA 95131. The financing will be used, in part, for working capital, to pay the seller, to pay off existing debt, and to pay fees and expenses.

The proposed transaction is brought within the purview of § 107.730 of the Regulations because Quest Discovery Services, Inc. will be using financing proceeds from The Central Valley Fund II SBIC, L.P. in part to discharge obligations to The Central Valley Fund I, L.P., which is an Associate of The Central Valley Fund II SBIC, L.P. as defined at § 107.50 due to common management.

Therefore, the proposed transaction is considered self-deal pursuant to 13 CFR § 107.730 and requires a regulatory exemption. Notice is hereby given that any interested person may submit written comments on the transaction within fifteen days of the date of this publication to Associate Administrator for Investment, U.S. Small Business Administration, 409 Third Street SW., Washington, DC 20416.

Dated: December 4, 2013.
Javier Saade,
Associate Administrator for Investment and Innovation.

[FR Doc. 2013-30056 Filed 12-17-13; 8:45 am]

BILLING CODE 8025-01-P